NUCLEAR REGULATORY COMMISSION

Advisory Committee on the Medical Uses of Isotopes: Reschedule of Public Meeting

AGENCY: Nuclear Regulatory Commission.

ACTION: Reschedule of public meeting.

SUMMARY: The U.S. Nuclear Regulatory Commission (NRC) has rescheduled the public teleconference meeting of the Advisory Committee on the Medical Uses of Isotopes (ACMUI) previously scheduled for July 15, 2021. The meeting notice, published in the Federal Register on June 17, 2021 (86 FR 32285), is being reissued to inform public stakeholders that the ACMUI meeting will now be held on September 2, 2021. The meeting agenda and any updates are available at https://www.nrc.gov/reading-rm/doc-collections/acmui/meetings/2021.html or by emailing Ms. Kellee Jamerson at the contact information below. The agenda is subject to change.

DATES: The rescheduled teleconference meeting will now be held on Thursday, September 2, 2021, 1:00 p.m. to 3:00 p.m. Eastern Daylight Time.

Date | Webinar information
September 2, 2021 | Link: https://usnrc.webex.com. Event number: 199 085 4780.

Public Participation: The meeting will also be held as a webinar. Any member of the public who wishes to participate in any portion of this meeting should register in advance of the meeting by accessing the provided link and event number above. Upon successful registration, an email confirmation will be generated providing the telephone bridge line and a link to join the webinar on the day of the meeting. Members of the public should also monitor the NRC's Public Meeting Schedule at https://www.nrc.gov/pmns/mtg for any meeting updates. If there are any questions regarding the meeting, please contact Ms. Jamerson using the information below.

FOR FURTHER INFORMATION CONTACT: Kellee Jamerson, email: Kellee.Jamerson@nrc.gov, telephone: 301-415-7408.

Conduct of the Meeting

The ACMUI Chair, Darlene F. Metter, M.D., will preside over the meeting. Dr. Metter will conduct the meeting in a manner that will facilitate the orderly conduct of business. The following procedures apply to public participation in the meeting:

1. Persons who wish to provide a written statement should submit an electronic copy to Ms. Jamerson at the contact information listed above. All written statements must be received by August 30, 2021, three business days prior to the meeting, and must pertain to the topics on the agenda for the meeting.

2. Questions and comments from members of the public will be permitted during the meeting, at the discretion of the ACMUI Chairman.

3. The draft transcript and meeting summary will be available on ACMUI's website https://www.nrc.gov/reading-rm/doc-collections/acmui/meetings/2021.html on or about November 1, 2021.

4. Persons who require special services, such as those for the hearing impaired, should notify Ms. Jamerson of their planned participation.

This meeting will be held in accordance with the Atomic Energy Act of 1954, as amended (primarily Section 161a); the Federal Advisory Committee Act (5 U.S.C. App); and the Commission's regulations in 10 CFR part 7.

Dated at Rockville, Maryland this 7th day of July, 2021.
For the U.S. Nuclear Regulatory Commission.
Russell E. Chazell,
Federal Advisory Committee Management Officer.

[FR Doc. 2021-14709 Filed 7-9-21; 8:45 am]

BILLING CODE 7590-01-P